DEPARTMENT OF TRANSPORTATION

Federal Aviation Administration

14 CFR Part 39

[Docket No. FAA-2007-29334; Directorate Identifier 2006-NM-268-AD; Amendment 39-15398; AD 2008-05-04]

RIN 2120-AA64

Airworthiness Directives; Airbus Model A330 Airplanes and A340-200 and -300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

[A]ll permanent fuselage skin * * * and lap joint doubler * * * repair principles published in the SRM (Structural Repair Manual) * * * have been replaced with Oct/05 Revision by updated, simplified and harmonized repair principles.

These updates led to the de-validation of some repairs and to reassess the repair inspection requirements. This situation if not corrected, can affect the aircraft structural integrity with a possible risk of decompression.

We are issuing this AD to require actions to correct the unsafe condition on these products.

DATES: This AD becomes effective April 8, 2008.

The Director of the Federal Register approved the incorporation by reference of certain publications listed in this AD as of April 8, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Discussion

We issued a notice of proposed rulemaking (NPRM) to amend 14 CFR part 39 to include an AD that would apply to the specified products. That NPRM was published in the Federal Register on September 28, 2007 (72 FR 55108). That NPRM proposed to correct an unsafe condition for the specified products. The MCAI states:

A review of the repair substantiations of the SRM (Structural Repair Manual) has been done to take into account the latest aircraft operational data (Aircraft Weight Variant and Fatigue Flight Mission Profiles). As a result, all permanent fuselage skin (Figure 202-210/213-214) and lap joint doubler (Figure 215-216) repair principles published in the SRM chapter 53-00-11, Page Block 201 have been replaced with Oct/05 Revision by updated, simplified and harmonized repair principles.

These updates led to the de-validation of some repairs and to reassess the repair inspection requirements. This situation if not corrected, can affect the aircraft structural integrity with a possible risk of decompression.

In order to maintain the structural integrity, this Airworthiness Directive (AD) renders mandatory the inspection of the fuselage to identify possible permanent skin repairs and permanent longitudinal lap joint repairs and to apply the associated corrective actions.

The corrective actions include contacting Airbus for repair/inspection instructions, and repair, as applicable, for skin repairs or longitudinal lap joint repairs that were done in accordance with the repair principles in Airbus A330 or A340-200/300 SRM chapter 53-00-11, Page Block 201, before October 2005, or repairs that were done without using an individual repair design approval sheet provided by Airbus. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 9 products of U.S. registry. We also estimate that it will take about 9 work-hours per product to comply with the basic requirements of this AD. The average labor rate is $80 per work-hour. Based on these figures, we estimate the cost of this AD to the U.S. operators to be $6,480, or $720 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-05-04 Airbus: Amendment 39-15398. Docket No. FAA-2007-29334; Directorate Identifier 2006-NM-268-AD.

Effective Date

(a) This airworthiness directive (AD) becomes effective April 8, 2008.

Affected ADs

(b) None.

Applicability

(c) This AD applies to Airbus Model A330-201, -202, -203, -223, -243, -301, -321, -322, -323, -341, -342, and -343 airplanes; and Model A340-200 and -300 series airplanes; all certified models, all serial numbers; certificated in any category; except those on which Airbus Modification 49144 (install rudder fly by wire) has been embodied in production.

Subject

(d) Fuselage.

Reason

(e) The mandatory continuing airworthiness information (MCAI) states:

A review of the repair substantiations of the SRM (Structural Repair Manual) has been done to take into account the latest aircraft operational data (Aircraft Weight Variant and Fatigue Flight Mission Profiles). As a result, all permanent fuselage skin (Figure 202-210/213-214) and lap joint doubler (Figure 215-216) repair principles published in the SRM chapter 53-00-11, Page Block 201 have been replaced with Oct/05 Revision by updated, simplified and harmonized repair principles.

These updates led to the de-validation of some repairs and to reassess the repair inspection requirements. This situation if not corrected, can affect the aircraft structural integrity with a possible risk of decompression.

In order to maintain the structural integrity, this Airworthiness Directive (AD) renders mandatory the inspection of the fuselage to identify possible permanent skin repairs and permanent longitudinal lap joint repairs and to apply the associated corrective actions.

The corrective actions include contacting Airbus for repair/inspection instructions, and repair, as applicable, for skin repairs or longitudinal lap joint repairs that were done in accordance with the repair principles in Airbus A330 or A340-200/300 SRM chapter 53-00-11, Page Block 201, before October 2005, or repairs that were done without using an individual repair design approval sheet provided by Airbus.

Actions and Compliance

(f) Within 18 months after the effective date of this AD, unless already done, do the following actions.

(1) For airplanes with Weight Variant (WV) greater than WV 004 and lower than or equal to WV 027 (for Model A330 airplanes) or WV 029 (for Model A340-200 and -300 series airplanes): Do the actions specified in paragraphs (f)(1)(i) and (f)(1)(ii) of this AD.

(i) Perform a detailed visual inspection of the fuselage outer skin for permanent skin repairs in the area between frame (FR) 54 and FR 58; and for permanent longitudinal lap joint repairs in the area between FR 53.3 and FR 58 (for Section 15, between FR 53.3 and FR 54, only in the area between stringer (STGR) 22LH (left-hand) and STGR 22RH (right-hand) upper shell); and as applicable, apply the corrective actions before further flight. Perform the actions in accordance with the instructions given in Airbus Service Bulletin A330-53-3161, dated April 14, 2006; or A340-53-4166, dated April 6, 2006; as applicable.

(ii) Perform a detailed visual inspection of the fuselage outer skin for permanent skin repairs in the area between FR 18 and FR 38, and between FR 58 and FR 91; and for permanent longitudinal lap joint repairs in the area between FR 18 and FR 53.3, and between FR 58 and FR 91 (for Section 15, between FR 39 and FR 53.3, only in the area between STGR 22LH and STGR 22RH upper shell); and as applicable, apply the corrective actions before further flight. Perform the actions in accordance with the instructions given in Airbus Service Bulletin A330-53-3162 or A340-53-4167, both dated April 6, 2006, as applicable.

(2) For airplanes with WV lower than or equal to WV 004: Perform a detailed visual inspection of the fuselage outer skin for permanent skin repairs in the area between FR 18 and FR 38, and between FR 54 and FR 91; and for permanent longitudinal lap joint repairs in the area between FR 18 and FR 91 (for Section 15, between FR 39 and FR 54, only in the area between STGR 22LH and STGR 22RH upper shell); and as applicable, apply the corrective actions before further flight. Perform the actions in accordance with the instructions given in Airbus Service Bulletin A330-53-3162 or A340-53-4167, both dated April 6, 2006, as applicable.

FAA AD Differences

Note: This AD differs from the MCAI and/ or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Backman, Aerospace Engineer, International Branch, ANM-116, Transport Airplane Directorate, FAA, 1601 Lind Avenue, SW., Renton, Washington 98057-3356; telephone (425) 227-2797; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directives 2006-0332 and 2006-0333, both dated October 27, 2006; and the Airbus service bulletins identified in Table 1 of this AD, for related information.

Table 1.—Service Information
Airbus Service Bulletin | Date
A330-53-3161 | April 14, 2006.
A330-53-3162 | April 6, 2006.
A340-53-4166 | April 6, 2006.
A340-53-4167 | April 6, 2006.

Material Incorporated by Reference

(i) You must use the service information specified in Table 2 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 2.—Material Incorporated by Reference
Airbus Service Bulletin | Date
A330-53-3161 | April 14, 2006.
A330-53-3162 | April 6, 2006.
A340-53-4166 | April 6, 2006.
A340-53-4167 | April 6, 2006.

Issued in Renton, Washington, on February 20, 2008.
Ali Bahrami,
Manager, Transport Airplane Directorate, Aircraft Certification Service.

[FR Doc. E8-3813 Filed 3-3-08; 8:45 am]

BILLING CODE 4910-13-P